DEPARTMENT OF COMMERCE

National Oceanic and Atmospheric Administration

RIN 0648-XC268

Marine Mammals; File Nos. 16239 and 17312

AGENCY: National Marine Fisheries Service (NMFS), National Oceanic and Atmospheric Administration (NOAA), Commerce.

ACTION: Notice; issuance of permits.

SUMMARY: Notice is hereby given that permits have been issued to Dan Engelhaupt, Ph.D., HDR EOC, 5700 Lake Wright Drive, Norfolk, VA 23502-1859, and Scripps Institution of Oceanography [Responsible Party: John Hildebrand, Ph.D.], University of California, 8635 Discovery Way, La Jolla, CA 92093 to conduct research on marine mammals in the Atlantic and Pacific Oceans.

ADDRESSES: The permits and related documents are available for review upon written request or by appointment in the following offices: See SUPPLEMENTARY INFORMATION.

FOR FURTHER INFORMATION CONTACT: For File No. 16239: Kristy Beard or Carrie Hubard and for File No. 17312: Amy Hapeman or Carrie Hubard, (301)427-8401.

SUPPLEMENTARY INFORMATION: On October 5, 2012 and April 19, 2013 notices were published in the Federal Register (77 FR 60966 and 78 FR 23538) for No. 16239 and No. 17312, respectively, that requests for permits to conduct research on marine mammals had been submitted by the above-named applicants. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 16239 authorizes all species of cetaceans and pinnipeds to be harassed during vessel and aerial survey activities, including behavioral observations and photo-identification. Cetacean species may also be harassed during underwater photography and collection of sloughed skin and fecal samples. Surveys may be conducted year-round in all U.S. and international waters in the Pacific Ocean (including Alaska, Washington, Oregon, California, Hawaii, Guam, Marianas Islands, and other U.S. territories) and Atlantic Ocean (including the Gulf of Mexico, western North Atlantic, Caribbean Sea, and Sargasso Seas). The permit is valid for five years from the date of issuance.

Permit No. 17312 authorizes research on 35 cetacean species and stocks during vessel surveys in the Pacific Ocean and Gulf of Mexico to understand cetaceans' use of sound, their sensitivity to anthropogenic sound, and impacts of the Deepwater Horizon oil spill. Researchers may: (1) Photograph cetaceans for identification to determine abundance, movements and population structure; (2) collect biopsies and fecal samples to determine taxonomy, sex, relatedness and stock structure of cetaceans; and (3) suction-cup tag, track, and collect passive acoustic recordings to study cetacean diving behavior, calling behavior, feeding, and movements. The permit is valid for five years from the date of issuance.

In compliance with the National Environmental Policy Act of 1969 (42 U.S.C. 4321 et seq.), a final determination has been made that the activities proposed are categorically excluded from the requirement to prepare an environmental assessment or environmental impact statement.

As required by the ESA, issuance of the permits was based on a finding that such permits: (1) Were applied for in good faith; (2) will not operate to the disadvantage of such endangered species; and (3) are consistent with the purposes and policies set forth in section 2 of the ESA.

Documents may be reviewed in the following locations:

Permits and Conservation Division, Office of Protected Resources, NMFS, 1315 East-West Highway, Room 13705, Silver Spring, MD 20910; phone (301)427-8401; fax (301)713-0376;

Northwest Region, NMFS, 7600 Sand Point Way NE., BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941;

Northeast Region, NMFS, 55 Great Republic Drive, Gloucester, MA 01930; phone (978)281-9328; fax (978) 281-9394; and

Southeast Region, NMFS, 263 13th Avenue South, Saint Petersburg, FL 33701; phone (727)824-5312; fax (727)824-5309.

Dated: September 27, 2013.
P. Michael Payne,
Chief, Permits and Conservation Division, Office of Protected Resources, National Marine Fisheries Service.

[FR Doc. 2013-24072 Filed 10-1-13; 8:45 am]

BILLING CODE 3510-22-P